DEPARTMENT OF TRANSPORTATION

Federal Aviation Administration

Notice of Opportunity for Public Comment on Release and Sale of Land Acquired With Airport Improvement Program (AIP) Assistance at Evergreen Municipal Airport, Evergreen, Alabama

AGENCY: Federal Aviation Administration, DOT.

ACTION: Request for public comments.

SUMMARY: Notice is being given that the FAA is considering a request from the City of Evergreen, Alabama to sell 1.76± acres of airport property, previously purchased through an AIP grant for the runway protection zone, to be used by the state highway department as right-of-way for the widening of US Highway 84.

DATES: Comments must be received on or before June 10, 2021.

ADDRESSES: Comments on this notice may be mailed or delivered in triplicate to the FAA to the following address: Jackson Airports District Office Attn: Graham Coffelt, Program Manager, 100 West Cross Street, Suite B Jackson, MS 39208-2307.

In addition, one copy of any comments submitted to the FAA must be mailed or delivered to City of Evergreen, Alabama, Attn: Honorable Stanley B. Stallworth, Mayor, City of Evergreen, 355 East Front Street, Evergreen AL 36401.

FOR FURTHER INFORMATION CONTACT: Graham Coffelt, Program Manager, Jackson Airports District Office, 100 West Cross Street, Suite B, Jackson, MS 39208-2307, (601) 664-9886. The land release request may be reviewed in person at this same location.

SUPPLEMENTARY INFORMATION: The FAA is reviewing a request by the City of Evergreen Alabama to release approximately 1.76 acres, more or less of airport property at Evergreen Municipal Airport (GZH) under the provisions of Title 49, U.S.C. Section 47107(h)(2). The sale of the subject property will result in the land at GZH being released from the conditions of the Airport Improvement Program Grant Agreement Grant Assurances. The FAA determined that the request to release property at GZH submitted by the Sponsor meets the procedural requirements of the Federal Aviation Administration and the release of the property does not and will not impact future aviation needs at the airport. The FAA may approve the request, in whole or in part, no sooner than thirty days after the publication of this notice. The 1.76 acres of property is located within the runway protection zone and the FAA has concurred that the sponsor has done a sufficient level of analysis per guidance on land use in the runway protection zone. A deed restriction or easement for obstruction clearing will remain on the 1.76 acres. In accordance with 49 U.S.C. 47107(c)(2)(B)(i) and (iii), the airport will receive fair market value for the property, which will be subsequently reinvested in another eligible airport improvement project at GZH.

Rans D. Black,
Manager, Jackson Airports District Office, Southern Region.

[FR Doc. 2021-09952 Filed 5-10-21; 8:45 am]

BILLING CODE 4910-13-P